DEPARTMENT OF THE INTERIOR

National Park Service

Isle Royale National Park, MI

AGENCY: National Park Service, Interior.

ACTION: Notice of intent to prepare a wilderness management plan and environmental impact statement for Isle Royale National Park, Michigan.

SUMMARY: The National Park Service (NPS) will prepare a wilderness management plan and an environmental impact statement (EIS) for Isle Royale National Park, Michigan in accordance with section 102(2)(C) of the National Environmental Policy Act of 1969 (NEPA). This notice is being furnished as required by NEPA Regulations 40 CFR 1501.7.

To facilitate sound planning and environmental analysis, NPS intends to gather information necessary for the preparation of the EIS, and to obtain suggestions and information from other agencies and the public on the scope of issues to be addressed in the EIS. Comments and suggestions in this scoping process are invited.

This project was initiated in the autumn of 1999. The planning process originally included preparation of an environmental assessment. However, as planning has progressed NPS now believes it is appropriate to prepare an EIS. Public involvement during the first phases of planning has been facilitated through a series of newsletters with mail-back input forms.

DATES: Written comments and information concerning the scope of the EIS should be directed to the Superintendent, Isle Royale National Park, at the address below before November 2, 2001.

Persons who already have provided information through responses to project newsletters need not re-send that information. NPS will consider these comments in preparation of the EIS. However, persons who wish to reemphasize or expand on their previous comments are welcome to do so. Additional input also is invited.

ADDRESSES: Written comments and information concerning the scope of the EIS and other matters, or requests to be added to the project mailing list should be directed to: Superintendent, Isle Royale National Park, 800 East Lakeshore Drive, Houghton, Michigan 49931-1895. Telephone: 906-487-7140. E-mail: isro_superintendent@nps.gov

FOR FURTHER INFORMATION CONTACT: Superintendent, Isle Royale National Park, at the address or telephone above.

SUPPLEMENTARY INFORMATION: Congress designated more than 99 percent of the 133,000 acres landmass of Isle Royale National Park as wilderness in 1976. However, NPS never prepared a wilderness management plan to help guide decision making on wilderness-related matters. Comprehensive, long-term planning for the park's wilderness is needed to address:

(1) The management of visitor use, which during the peak season overwhelms facility capacities in campgrounds.

(2) The adoption, implementation, and refinement of resource and visitor experience indicators and related monitoring to ensure wilderness resources, values, and experiences are not being compromised.

(3) The adoption of a “minimum tool” decision framework for park operations within wilderness.

(4) Development of a new computerized permit/reservation system for camping permits.

(5) Specific directions for such diverse issues as campfires, trail maintenance, backcountry sanitation, interpretation and education in the wilderness, campground design, wildlife protection, acceptable signing, etc.

(6) Development of an implementation schedule to proactively plan for future projects in the wilderness.

The environmental review of the wilderness management plan for Isle Royale National Park will be conducted in accordance with requirements of NEPA (42 U.S.C. section 4371 et seq.), NEPA regulations (40 CFR 1500-1508), other appropriate Federal regulations, and NPS procedures and policies for compliance with those regulations.

James A. Loach,
Acting Regional Director.

[FR Doc. 01-24629 Filed 10-1-01; 8:45 am]

BILLING CODE 4310-70-P